DEPARTMENT OF HEALTH AND HUMAN SERVICES

Centers for Disease Control and Prevention

Needs and Challenges in Personal Protective Equipment (PPE) Use for Underserved User Populations; Extension of Comment Period

AGENCY: National Institute for Occupational Safety and Health (NIOSH) of the Centers for Disease Control and Prevention (CDC), Department of Health and Human Services (HHS).

ACTION: Extension of comment period.

SUMMARY: On June 24, 2021, NIOSH opened a notice to request information on the Needs and Challenges in Personal Protective Equipment (PPE) Use for Underserved User Populations. Written comments were to be received by August 23, 2021. NIOSH is extending the public comment period to October 15, 2021.

DATES: The comment period for the document published on June 24, 2021 (86 FR 33296), is extended. Comments must be received by October 15, 2021.

ADDRESSES: Interested parties should submit information to: NIOSH, Attn: Sherri Diana, National Institute for Occupational Safety and Health, NIOSH Docket Office, 1090 Tusculum Avenue, MS C-34, Cincinnati, Ohio 45226-1998, Email address: ppeconcerns@cdc.gov.

FOR FURTHER INFORMATION CONTACT: N. Katherine Yoon, Ph.D., National Institute for Occupational Safety and Health Centers for Disease Control and Prevention Email Address: NYoon@cdc.gov, Phone number: 412-386-6752 [non-toll-free number].

SUPPLEMENTARY INFORMATION: NIOSH published a notice and request for information in the Federal Register on June 24, 2021 (86 FR 33296) regarding the Needs and Challenges in Personal Protective Equipment (PPE) Use for Underserved User Populations. This notice announces the extension of the comment period until October 15, 2021.

Frank J. Hearl,
Chief of Staff, National Institute for Occupational Safety and Health, Centers for Disease Control and Prevention.

[FR Doc. 2021-17485 Filed 8-13-21; 8:45 am]

BILLING CODE 4163-18-P